DEPARTMENT OF HEALTH AND HUMAN SERVICES

Health Resources and Services Administration

HRSA AIDS Advisory Committee; Notice of Meeting

In accordance with section 10(a)(2) of the Federal Advisory Committee Act (Pub. L. 92-463), notice is hereby given of the following advisory committee meeting. The meeting is open to the public.

Name: HRSA AIDS Advisory Committee (HAAC).

Date and Time: November 21, 2002; 1:30 p.m.-5 p.m., November 22, 2002; 8:30 a.m.-3:30 p.m.

Place: Radisson Barcelo, 2121 P Street, NW., Washington, DC 20037, Telephone: (202) 293-3100.

Agenda: Agenda items for the meeting include a discussion of the involvement of Community and Migrant Health Centers in HIV care, HIV medical certification, HRSA restructuring, AIDS Drug Assistance Program issues, Native American issues, and HAAC planning for reauthorization of the CARE Act.

For Further Information Contact: Anyone requiring further information should contact Shelley Gordon, HIV/AIDS Bureau, Parklawn Building, Room 16C-26, 5600 Fishers Lane, Rockville, Maryland 20857, Telephone (301) 443-9684.

Dated: October 17, 2002.
Jane M. Harrison,
Director, Division of Policy Review and Coordination.

[FR Doc. 02-27520 Filed 10-28-02; 8:45 am]

BILLING CODE 4165-15-P